NUCLEAR REGULATORY COMMISSION

[NRC-2013-0237]

Cost-Benefit Analysis for Radwaste Systems for Light-Water-Cooled Nuclear Power Reactors

AGENCY: Nuclear Regulatory Commission.

ACTION: Regulatory guide; issuance.

SUMMARY: The U.S. Nuclear Regulatory Commission (NRC) is issuing revision 1 to Regulatory Guide (RG) 1.110, “Cost-Benefit Analysis for Radwaste Systems for Light-Water-Cooled Nuclear Power Reactors,” in which the NRC made editorial corrections and formatting changes with no substantive changes in the staff regulatory positions. This guide describes methods and procedures that the staff of the NRC considers acceptable for performing a cost-benefit analysis for liquid and gaseous radwaste system components for light water nuclear power reactors.

ADDRESSES: Please refer to Docket ID NRC-2013-0237 when contacting the NRC about the availability of information regarding this document. You may access publicly-available information related to this action by the following methods:

• Federal Rulemaking Web site: Go to http://www.regulations.gov and search for Docket ID NRC-2013-0237. Address questions about NRC dockets to Carol Gallagher; telephone: 301-287-3422; email: Carol.Gallagher@nrc.gov. For technical questions, contact the individual(s) listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. Revision 1 of RG 1.110 is available in ADAMS under Accession No. ML13241A052.

• NRC's PDR: You may examine and purchase copies of public documents at the NRC's Public Document Room O1-F21, One White Flint North, 11555 Rockville Pike, Rockville, Maryland 20852.

Regulatory guides are not copyrighted, and NRC approval is not required to reproduce them.

FOR FURTHER INFORMATION CONTACT: Stephen C. Burton, Region III, telephone: 301-415-7000; email: Stephen.Burton@nrc.gov, U.S. Nuclear Regulatory Commission, Washington, DC 20555-0001.

SUPPLEMENTARY INFORMATION:

I. Introduction

The NRC is issuing a revision to an existing guide in the NRC's “Regulatory Guide” series. Regulatory guides were developed to describe and make available to the public information and methods that are acceptable to the NRC staff for implementing specific parts of the agency's regulations, techniques that the staff uses in evaluating specific problems or postulated accidents, and data that the staff needs in its review of applications for permits and licenses. The NRC typically seeks public comment on a draft version of a regulatory guide by announcing its availability for comment in the Federal Register. However, as explained in section III.F. of the NRC's Management Directive Handbook 6.6, “Regulatory Guides,” (ADAMS Accession No. ML110330475) the NRC may directly issue a final regulatory guide without a draft version or public comment period if the changes to the regulatory guide are non-substantive.

The NRC is issuing Revision 1 of RG 1.110 directly as a final regulatory guide because the changes between Revision 0 and Revision 1 are non-substantive. Regulatory Guide 1.110 was revised to incorporate editorial changes and the NRC's current format for regulatory guides. These changes were intended to improve clarity and did not alter the staff regulatory guidance.

In the course of a periodic review of the guide, the NRC staff identified several technical issues (ADAMS Accession No. ML13238A095). Nonetheless, the current version is successfully being used by the NRC staff in their safety reviews and by applicants in preparing license applications under parts 50 and 52 of Title 10 of the Code of Federal Regulations (10 CFR).

The NRC staff currently is considering revising RG 1.110 as part of rulemaking efforts being planned in response to the Staff Requirements Memorandum for SECY-12-0064, “Recommendation for Policy and Technical Direction to Revise Radiation Protection Regulations and Guidance” (ADAMS Accession No. ML12306A119). The rulemaking effort for 10 CFR part 50, appendix I, “Numerical Guides for Design Objectives and Limiting Conditions for Operation to Meet the Criterion `As Low as is Reasonably Achievable' for Radioactive Material in Light-Water-Cooled Nuclear Power Reactor Effluents,” will include the development of a technical basis, public meetings and industry workshops, and revision of NRC guidance documents and computer codes. This effort should also incorporate the update of the cost-benefit ratio for person-rem, which would be a significant update.

II. Backfitting and Issue Finality

Issuance of this final regulatory guide does not constitute backfitting as defined in 10 CFR 50.109 (the Backfit Rule) and is not otherwise inconsistent with the issue finality provisions in 10 CFR part 52. The changes in Revision 1 of RG 1.110 are limited to editorial changes to improve clarity and formatting changes to align with the NRC's new standardized regulatory guide format. These changes do not fall within the kinds of agency actions that constitute backfitting or are subject to limitations in the issue finality provisions of part 52. Accordingly, the NRC did not address the Backfit Rule or issue finality provisions of part 52.

III. Congressional Review Act

This regulatory guide is a rule as defined in the Congressional Review Act (5 U.S.C. §§ 801-808). However, the Office of Management and Budget has not found it to be a major rule as defined in the Congressional Review Act.

IV. Submitting Suggestions for Improvement of Regulatory Guides

Revision 1 of RG 1.110 is being issued without public comment. However, you may at any time submit suggestions to the NRC for improvement of existing regulatory guides or for the development of new regulatory guides to address new issues. Suggestions can be submitted by the form available online at http://www.nrc.gov/reading-rm/doc-collections/reg-guides/contactus.html. Suggestions will be considered in future updates and enhancements of the regulatory guide.

Dated at Rockville, Maryland, this 7th day of October 2013.
For the Nuclear Regulatory Commission.
Thomas H. Boyce,
Chief, Regulatory Guide Development Branch, Division of Engineering, Office of Nuclear Regulatory Research.

[FR Doc. 2013-25256 Filed 10-24-13; 8:45 am]

BILLING CODE 7590-01-P